NATIONAL AERONAUTICS AND SPACE ADMINISTRATION

[Notice: 24-076]

Astrophysics Advisory Committee

AGENCY: National Aeronautics and Space Administration.

ACTION: Notice of meeting.

SUMMARY: In accordance with the Federal Advisory Committee Act, the National Aeronautics and Space Administration (NASA) announces a meeting of the Astrophysics Advisory Committee.

DATES: Thursday, November 7, 2024, 9 a.m.-5 p.m., and Friday, November 8, 2024, 9 a.m.-5 p.m., All times are eastern time.

ADDRESSES: Public attendance will be virtual only. Webex registration information below.

FOR FURTHER INFORMATION CONTACT: Mr. David Morris, Designated Federal Officer, Astrophysics Advisory Committee, NASA Headquarters, Washington, DC 20546, via email at david.c.morris@nasa.gov or at (202) 718-9061.

SUPPLEMENTARY INFORMATION: As noted above, this meeting will be open to the public via Webinar and telephonically. Any interested person must use a touch-tone phone to participate in this meeting. The Webex connectivity information for each day will be provided to those who register in advance through the registration link below. For audio, when you join the Webex event, you may use your computer or provide your phone number to receive a call back, otherwise, call the U.S. toll conference number listed for each day in the registration information that is sent after registration. Attendees must preregister to receive meeting connection information. Preregister at: https://nasaevents.webex.com/nasaevents/j.php?MTID=m94141b8705290e7765ef0e2fef80bcb7.

The agenda for the meeting includes the following topics:

—Astrophysics Division Update

—Updates on Specific Astrophysics Missions

—Discussion of reports from the Program Analysis Groups

The public may submit and upvote comments/questions ahead of the meeting through the website: https://nasa.cnf.io/sessions/n24m/#!/dashboard, that will be opened for input on October 28, 2024.

It is imperative that the meeting be held on these dates to accommodate the scheduling priorities of the key participants.

For more information, please visit https://beta.science.nasa.gov/researchers/nac/science-advisory-committees/apac/.

Jamie M. Krauk,
Advisory Committee Management Officer, National Aeronautics and Space Administration.

[FR Doc. 2024-25082 Filed 10-28-24; 8:45 am]

BILLING CODE 7510-13-P